OFFICE OF THE UNITED STATES TRADE REPRESENTATIVE

Technical Corrections to the Harmonized Tariff Schedule of the United States

AGENCY: Office of the United States Trade Representative.

ACTION: Notice.

SUMMARY: The United States Trade Representative (USTR) is making technical corrections to the Harmonized Tariff Schedule of the United States (HTS) as set forth in the annex to this notice, pursuant to authority delegated to the USTR in Presidential Proclamation 6969 of January 27, 1997 (62 FR 4415). These modifications correct two inadvertent errors in Presidential Proclamation 7351 of October 2, 2000 (65 FR 59329), and one inadvertent omission in Presidential Proclamation 6763 of December 23, 1994 (60 FR 1007), so that the intended tariff treatment is provided.

EFFECTIVE DATE: October 2, 200, for Annex sections A and B; January 1, 1995, for Annex section C.

FOR FURTHER INFORMATION CONTACT: For CBTPA issue, Caroyl Miller, Deputy Chief Textile Negotiator, (202) 395-3026; for pharmaceutical products issue, Paul Moore, Director for Market Access, (202) 395-5656; or Kate Mueller, Assistant General Counsel, (202) 395-3582.

SUPPLEMENTARY INFORMATION: Proclamation 7351 implemented the United States-Caribbean Basin Trade Partnership Act (CBTPA). Section 211 of the CBTPA provides that eligible textile and apparel articles of a designated CBTPA beneficiary country shall enter the United States free of duty and free of quantitative limitations. The annex to Proclamation 7351 made modifications to the HTS in order to implement the tariff treatment provided under the CBTPA. The annex to this notice modifies the annex to Proclamation 7351 to correct two inadvertent errors (see annex sections A and B below) so that the intended tariff treatment is provided.

Proclamation 6763 implemented the trade agreements resulting from the Uruguay Round of multilateral trade negotiations. The annex to Proclamation 6763 made modifications to the HTS in order to implement the tariff treatment provided under the Uruguay Round Agreements, including the tariff treatment provided to pharmaceutical products (see annex to Proclamation 6763 at section 1, paragraph 13). The annex to this notice modifies the annex to Proclamation 7351 to correct one inadvertent omission (see annex section C below) so that the intended tariff treatment is provided.

Proclamation 6969 authorized the USTR to exercise the authority provided to the President under section 604 of the Trade Act of 1974 (19 U.S.C. 2483) to embody rectifications, technical or conforming changes, or similar modifications in the HTS. Under the authority vested in the USTR by proclamation 6969, the rectifications, technical and conforming changes, and similar modifications set forth in sections A and B of the annex to this notice shall be embodied in the HTS with respect to goods entered, or withdrawn from warehouse for consumption, on or after October 2, 2000; those in section C of the annex to this notice shall be embodied in the HTS with respect to goods entered, or withdrawn from warehouse for consumption, on or after January 1, 1995.

Peter F. Allgeier,
Acting United States Trade Representative.

Annex

Effective with respect to goods entered, or withdrawn from warehouse for consumption, on or after October 2, 2000, the Harmonized Tariff Schedule of the United States is modified as follows:

A. U.S. note 3(b) to subchapter XX of chapter 98 is modified by deleting “tapes and labels)” and by inserting in lieu thereof “tapes) and labels”.

B. U.S. note 3(d) to subchapter XX of chapter 98 is modified by deleting “, 5401.41.90, ” and by inserting in lieu thereof “, 5402.41.90, ”.

Effective with respect to goods entered, or withdrawn from warehouse for consumption, on or after January 1, 1995, the Harmonized Tariff Schedule of the United States is modified as follows:

C. Subheading 2903.47.00 is modified by inserting in alphabetical sequence into the parenthetical expression in the Rates of Duty 1-Special subcolumn the symbol “, K”.

[FR Doc. 02-21916 Filed 8-27-02; 8:45 am]

BILLING CODE 3190-01-M